DEPARTMENT OF COMMERCE

National Oceanic and Atmospheric Administration

[I.D. 042601B]

Survey of Intent and Capacity to Process Fish and Shellfish

AGENCY: National Oceanic and Atmospheric Administration (NOAA).

ACTION: Proposed information collection; comment request.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506(c)(2)(A)).

DATES: Written comments must be submitted on or before July 2, 2001.

ADDRESSES: Direct all written comments to Madeleine Clayton, Departmental Paperwork Clearance Officer, Department of Commerce, Room 6086, 14th and Constitution Avenue NW, Washington DC 20230 (or via Internet at MClayton@doc.gov).

FOR FURTHER INFORMATION CONTACT: Requests for additional information or copies of the information collection instrument(s) and instructions should be directed to George Darcy, Assistant Regional Administrator, Sustainable Fisheries Division, 1 Blackburn Circle, Gloucester, MA, 01930, (978) 281-9331, fax (978) 281-9135.

SUPPLEMENTARY INFORMATION:

I.. Abstract

The Fishery Management Plans for Atlantic Surf Clams and Ocean Quahogs, and Atlantic Mackerel, Squid, and Butterfish include requirements that the National Marine Fisheries Service and/or the Mid-Atlantic Fishery Management Council survey domestic processors and joint venture operators annually to establish industry capacity to utilize the managed species.

A survey, described in the squid, mackerel and butterfish regulations at 50 CFR 648.21(b), is used to establish the intent and capacity of the U.S. industry to utilize allowable harvest in a given year. If the U.S. industry is unable to fully utilize the allowed harvest of Atlantic mackerel, the excess may be used in establishing levels of catch for joint ventures and/or direct foreign harvest.

A survey, required under the surf clam and ocean quahog regulations at 50 CFR 648.7(a)(3)(ii), is used to obtain data for use in monitoring present processing activities and estimating future production at the processing plant level.

Both annual surveys seek information concerning the annual capacity to process these species; the historical amount of product processed; and the quantity of product to be processed in the future.

II. Method of Collection

Telephone surveys are used for the surf clam/ocean quahog fishery, and paper forms are used for the Atlantic mackerel, squid, and butterfish fisheries.

III. Data

OMB Number: 0648-0235.

Form Number: None.

Type of Review: Regular submission.

Affected Public: Business or other for-profit organizations.

Estimated Number of Respondents: 54.

Estimated Time Per Response: 5 minutes per report for the surf clam/ocean quahog fishery, 15 minutes per report for other fisheries.

Estimated Total Annual Burden Hours: 10.

Estimated Total Annual Cost to Public: $19.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 25, 2001.
Gwellnar Banks,
Management Analyst, Office of the Chief Information Officer.

[FR Doc. 01-10787 Filed 4-30-01; 8:45 am]

BILLING CODE 3510-22-S